DEPARTMENT OF AGRICULTURE

Animal and Plant Health Inspection Service

[Docket No. 02-035-1]

Availability of an Environmental Assessment

AGENCY: Animal and Plant Health Inspection Service, USDA.

ACTION: Notice of availability and request for comments.

SUMMARY: We are advising the public that an environmental assessment has been prepared by the Animal and Plant Health Inspection Service relative to the control of cycad scale, Aulacaspis yasumatsui. The environmental assessment considers the effects of, and alternatives to, the release of nonindigenous organisms into the environment for use as biological control agents to reduce the severity of cycad scale infestations. We are making this environmental assessment available to the public for review and comment.

DATES: We will consider all comments we receive that are postmarked, delivered, or e-mailed by June 3, 2002.

ADDRESSES: You may submit comments by postal mail/commercial delivery or by e-mail. If you use postal mail/commercial delivery, please send four copies of your comment (an original and three copies) to: Docket No. 02-035-1, Regulatory Analysis and Development, PPD, APHIS, Station 3C71, 4700 River Road Unit 118, Riverdale, MD 20737-1238. Please state that your comment refers to Docket No. 02-035-1. If you use e-mail, address your comment to regulations@aphis.usda.gov. Your comment must be contained in the body of your message; do not send attached files. Please include your name and address in your message and “Docket No. 02-035-1” on the subject line.

You may read any comments that we receive on the environmental assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis,usda.gov/ppd/rad/webrepor.html.

FOR FURTHER INFORMATION CONTACT: Dr. Dale Meyerdirk, Agriculturist, PPQ, APHIS, 4700 River Road Unit 135, Riverdale, MD 20737-1236; (301) 734-5220.

SUPPLEMENTARY INFORMATION:

Background

The Animal and Plant Health Inspection Service (APHIS) is proposing to release nonindigenous species of parasitic wasps in the genus Coccobius (Hymenoptera: Encyrtidae) and Encarsia (Hymenoptera: Aphelinidae), as well as the predaceous beetle Cybocephalus binotatus (Coleoptera: Nitidulidae), in the continental United States and U.S. territories in the Caribbean to reduce the severity of cycad scale infestations.

Cycad scale (CS) is a devastating pest of cycads. Cycads are horticulturally important and endangered plant species. CS damages all cycads, both endemic and introduced species, as well as ornamental cycads. Since its arrival, CS has damaged cycad ecosystems in Florida, Georgia, Puerto Rico, and the U.S. Virgin Islands. CS has also caused significant economic losses to the cycad industry in Florida and it has the potential to completely disrupt the horticultural trade in cycads.

APHIS has completed an environmental assessment that considers the effects of, and alternatives to, releasing parasitic wasps of two genera and a species of predaceous beetle into the environment. The purpose of the proposed release is to reduce the severity of CS infestations. There is no evidence that the release of these biological control agents will adversely affect threatened and endangered species or their habitat. Over a period of decades, several species of both Coccobius and Encarsia have been successfully introduced into the continental United States for effective control of other pest scales, with no adverse impacts reported from these introductions. The biological characteristics of wasps in the genus Coccobius and Encarsia, and of the predaceous beetle Cybocephalus binotatus, preclude any possibility of harmful effects on human health.

APHIS' review and analysis of the potential environmental impacts associated with releasing these biological control agents into the environment are documented in detail in an environmental assessment entitled “Control of Cycad Scale, Aulacaspis yasumatsui (Homoptera: Diaspididae)” (February 2002). We are making this environmental assessment available to the public for review and comment. We will consider all comments that we receive by the date listed under the heading DATES at the beginning of this notice.

You may request copies of the environmental assessment by calling or writing to the person listed under FOR FURTHER INFORMATION CONTACT. Please refer to the title of the environmental assessment when requesting copies. The environmental assessment is also available for review in our reading room (information on the location and hours of the reading room is listed under the heading ADDRESSES at the beginning of this notice.)

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 26th day of April, 2002.
W. Ron DeHaven,
Acting Administrator, Animal and Plant Health Inspection Service.

[FR Doc. 02-10884 Filed 5-1-02; 8:45 am]

BILLING CODE 3410-34-P